DEPARTMENT OF THE INTERIOR

Minerals Management Service

30 CFR Part 250

RIN 1010-AC93

Oil and Gas and Sulphur Operations in the Outer Continental Shelf—Document Incorporated by Reference—API RP 14C

AGENCY: Minerals Management Service (MMS), Interior.

ACTION: Corrections to final regulations.

SUMMARY: This document contains corrections to the final regulations published on August 9, 2002 (67 FR 51757). The final rule related to updating one document incorporated by reference in regulations governing oil, gas, and sulphur operations in the Outer Continental Shelf (OCS). The final rule updated the American Petroleum Institute (API) Recommended Practice (RP) 14C document to the Seventh Edition, March 2001. The new edition allows lessees to use updated industry standard technologies while operating in the OCS. The corrections being made are non-substantive and are necessary for clarification purposes only.

EFFECTIVE DATE: September 9, 2002.

FOR FURTHER INFORMATION CONTACT: Wilbon A. Rhome, (703) 787-1587.

SUPPLEMENTARY INFORMATION:

Background

The final regulations that are the subject of these corrections revised the incorporated-by-reference API document RP 14C, for Analysis, Design, Installation and Testing of Basic Surface Safety Systems for Offshore Production Platforms, to incorporate the new Seventh Edition of API RP 14C. MMS determined that:

• Incorporating into regulations the Seventh Edition that specifies a reduced testing frequency will not jeopardize the use of the best and safest technologies.

• The changes between the old and new editions represent new industry standard technology and will not impose undue cost on the offshore oil and gas industry.

• The changes to our regulations will eliminate the need for industry to request certain departures from the regulations.

Based on the determinations, the final rulemaking incorporated the new Seventh Edition of API RP 14C. The final rule also made corresponding revisions to the appropriate regulatory sections that reference API RP 14C.

The 30 CFR part 250 regulations incorporate many industry standards. Section 250.198 describes our documents incorporated by reference policy and procedures, and meets the Federal Register (FR) legal requirements for incorporating documents by reference. Section 250.198 also provides a complete list of all incorporated documents and the corresponding regulatory cites.

The legal department of the FR reviews all Final Rulemaking actions when they incorporate documents by reference into agencies' regulations. Upon review of the final rule that is the subject of this correction, the FR legal department advised us that whenever our regulations cite a document incorporated by reference, the regulation must refer readers to § 250.198. The FR specified that the statement “incorporated by reference as specified in § 250.198” be inserted following the cited document. The FR allowed that we could revise our regulations to incorporate this insertion as part of final rulemaking actions that affect specific documents incorporated by reference. In this case, a final rulemaking action affected API 14C.

Need for Correction

On page 51760 of the FR publication of the final rule, “instruction number 5.C” redesignated the previously designated §§ 250.804(a)(4) through (a)(11) to §§ 250.804 (a)(5) through (a)(12). To accommodate the FR requirements previously discussed, the subsequent instruction number 5.E specified that the second sentence in the newly redesignated paragraph (a)(5) be revised. This instruction contained a typographical error in that the revision should have been made to the newly redesignated paragraph (a)(6) instead. Consequently the redesignated paragraph (a)(5) was incorrectly revised and the redesignated paragraph (a)(6) did not contain the FR required reference to § 250.198.

On page 51759 of the FR publication of the final rule, the revision to the table in § 250.198(e) also incorrectly cited § 250.804(a)(5) instead of (a)(6).

Correction of Publication

PART 250—[CORRECTED]

Part 250 is corrected by making the following correcting amendments:

1. In § 250.198, in the table in paragraph (e), the entry for “API RP 14C” is corrected by revising citation “(a)(5)” in the second column to read “(a)(6)”.

2. Section 250.804 is corrected by revising the second sentence in paragraphs (a)(5) and (a)(6) as follows:

§ 250.804 Production safety-system testing and records.

(a) * * *

(5) * * * The SSV's and USV's must be tested in accordance with the test procedures specified in API RP 14H (incorporated by reference as specified in § 250.198). * * *

(6) * * * The FSV's must be tested for leakage in accordance with the test procedures specified in API RP 14C, Appendix D, section D4, table D2, subsection D (incorporated by reference as specified in § 250.198). * * *

* * * * *

Dated: December 10, 2002.
Rebecca W. Watson,
Assistant Secretary, Land and Minerals Management.

[FR Doc. 02-32937 Filed 12-31-02; 8:45 am]

BILLING CODE 4310-MR-P